DEPARTMENT OF LABOR

Employment and Training Administration

Wage and Hour Division

Announcement of Public Briefings on the Changes to the Labor Certification Process for the Temporary Non-Agricultural Employment of H-2B Aliens in the United States

AGENCIES: Employment and Training Administration and Wage and Hour Division; Department of Labor.

ACTION: Notice of Meeting and Webinars.

SUMMARY: On February 21, 2012, the Department of Labor (the Department or DOL) published a Final Rule to amend the H-2B regulations at 20 CFR part 655 governing the certification of temporary employment of nonimmigrant workers in temporary or seasonal non-agricultural employment. See Temporary Non-Agricultural Employment of H-2B Aliens in the United States, Final Rule, 76 FR 10038, Feb. 21, 2012 (the H-2B Final Rule). The Department's H-2B Final Rule also created new regulations at 29 CFR part 503 to provide for enhanced enforcement under the H-2B program requirements should employers fail to meet their obligations under the H-2B program. The Department has also made changes to the Application for Temporary Employment Certification, ETA Form 9142 (OMB Control No. 1205-0466). The H-2B Final Rule is scheduled to become effective on April 23, 2012.

The Department has scheduled three webinars and one public briefing to educate stakeholders, program users, and other interested members of the public on changes to the H-2B program made by the H-2B Final Rule and on applying for H-2B temporary labor certifications under the new regulations using the modified ETA Form 9142.

As currently planned, the sessions will take place in March and early April, 2012. The in-person briefing will be held at DOL in Washington, DC This notice provides the public with dates, location, and registration information regarding the webinars and public briefing. These informational sessions are subject to change and/or cancellation without further notice in the Federal Register. However, the Department will post any changes related to the webinars on the Office of Foreign Labor Certification Web site at: http://www.foreignlaborcert.doleta.gov/ and will notify registered participants of any changes to the in-person briefing. Please note that the capacity of each webinar is limited to 200 concurrent participants. Ability to log in to a webinar session is established on a first-come, first-served basis; please note that all the webinars will cover essentially the same information. Participants will be able to log in approximately 30 minutes prior to the official start of the webinar listed below. We encourage organizations or other groups of participants to access the webinars at a single, centralized location to maximize attendance.

DATES: The webinars and briefing dates are:

1. Wednesday, March 14, 2012, Webinar.

Time: 1:30 p.m.-4 p.m. Eastern Daylight Time.

2. Tuesday, March 20, 2012, Webinar.

Time: 1:30 p.m.-4 p.m. Eastern Daylight Time.

3. Tuesday, March 27, 2012, Webinar.

Time: 1:30 p.m.-4 p.m. Eastern Daylight Time.

4. Tuesday, April 17, 2012, In-person briefing in Washington, DC

Time: 10 a.m.-3 p.m. Eastern Daylight Time. Check-in of registered participants will begin onsite at 9 a.m.

ADDRESSES: The meeting locations are:

Webinars

1. To join the Webinars, please follow these steps:

To join the March 14 Webinar, please go to:

https://dol.webex.com/dol/onstage/g.php?d=646230663&t=a&EA=erskine.timothy%40dol.gov&ET=2d120e21c0cb4635d8f0bd3e97c6ca60&ETR=915808b73610795947a9ea7bf97313de&SourceId=b8f4e0b12f35fcede040fc0a0f8423ac&RT=MiMxMQ==&p

And click “Join Now”. To join the March 20 Webinar, please go to:

https://dol.webex.com/dol/onstage/g.php?d=647498716&t=a&EA=erskine.timothy%40dol.gov&ET=c9e80572b4c79ccf5cd558e1c8de99e2&ETR=aa513badddf52796a18d716d83edb8fd&SourceId=b8f4a81c5ebcd5a8e040fc0a10846718&RT=MiMxMQ==&p

And click “Join Now”.

To join the March 27 Webinar, please go to:

https://dol.webex.com/dol/onstage/g.php?d=644379778&t=a&EA=erskine.timothy%40dol.gov&ET=9adf21361097d9035af79e481ed0f923&ETR=59fcba3eed369d888cc6207ddb37bd2a&SourceId=b8f4a81c5ec6d5a8e040fc0a10846718&RT=MiMxMQ==&p

And click “Join Now”.

2. If a Security Information message appears, click “Run” or “Yes”.

3. Enter your name and email address.

4. Click “Join Now”.

In-Person Briefing

Washington DC—DOL Auditorium, Frances Perkins Building, U.S. Department of Labor, 200 Constitution Avenue NW., Washington, DC 20210.

This venue will accommodate 100 participants. All visitors should enter the building at the visitors' entrance at 3rd and D Streets, NW and must bring with them a government-issued ID to gain access to the building.

FOR FURTHER INFORMATION CONTACT: For further information regarding the Employment and Training Administration's portion of the briefings, contact William L. Carlson, Ph.D., Administrator, Office of Foreign Labor Certification, Employment and Training Administration, 200 Constitution Avenue NW., Room C-4312, Washington, DC 20210; Telephone: (202) 693-3010 (this is not a toll-free number).

For further information regarding the Wage and Hour Division's portion of the briefings, contact Jim Kessler, Branch Chief of Immigration and Farm Labor, Wage and Hour Division, U.S. Department of Labor, 200 Constitution Avenue NW., Room S-3510, Washington, DC 20210; Telephone (202) 693-0070 (this is not a toll-free number).

Please do not call these offices to register as they cannot accept registrations.

SUPPLEMENTARY INFORMATION:

To Join the Webinars: Please follow the instructions above. During the webinar, you will have an opportunity to email questions. If you wish to submit your question ahead of time, you can email it to: H-2B.Regulation@dol.gov.

In addition, participants must dial a toll-free number to hear the conversation. The toll-free number to call is 888-810-9161 and the passcode is 7393731. (Please note that due to the large number of participants, callers will not have the ability to ask questions over the phone line. As noted above, the webinars, including the phone lines, will be limited to the first 200 participants.)

To Register for the In-Person Briefing: To register for the in-person briefing session please email your intent to April17.Briefing@dol.gov. Please include your name (last name, first name, middle initial), your organization's name, and your contact information (phone/fax/email). Due to space considerations, attendance will be limited to those who register on a first-come, first-served basis. Participants will be notified that their registration has been processed. When we reach full capacity for the auditorium, the Department will post a notice on the Office of Foreign Labor Certification Web site at: http://www.foreignlaborcert.doleta.gov/to notify the public that the registration period has closed. We will also notify participants if this event is cancelled or in the event of any changes.

This information should be used by any member of the public planning to attend a webinar or the briefing session.

Dated: February 24, 2012.
Jane Oates,
Assistant Secretary for Employment and Training.
Nancy Leppink,
Deputy Administrator, Wage and Hour Division.

[FR Doc. 2012-5159 Filed 3-1-12; 8:45 am]

BILLING CODE 4510-FP-P